DEPARTMENT OF DEFENSE

Office of the Secretary

[Transmittal No. 21-0J]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 21-0J.

Dated: March 16, 2023.
Aaron T. Siegel,
Alternate OSD Federal Register Liaison Officer, Department of Defense.

BILLING CODE 5001-06-P

BILLING CODE 5001-06-C

Transmittal No. 21-0J

REPORT OF ENHANCEMENT OR UPGRADE OF SENSITIVITY OF TECHNOLOGY OR CAPABILITY (SEC. 36(B)(5)(C)), (AECA)

(i) Purchaser: Government of France

(ii) Sec. 36(b)(1), AECA Transmittal No.: 13-40

Date: June 27, 2013

Military Department: Air Force

(iii) Description: On June 27, 2013, Congress was notified by Congressional certification transmittal number 13-40 of the possible sale, under Section 36(b)(1) of the Arms Export Control Act, of sixteen (16) MQ-9 Reaper Remotely Piloted Aircraft; eight (8) Mobile Ground Control Stations; forty-eight (48) Honeywell TPE331-10T Turboprop Engines (16 installed and 32 Spares); twenty-four (24) Satellite Earth Terminal Substations; forty (40) Ku Band Link-Airborne Communication Systems; forty (40) General Atomics Lynx (exportable) Synthetic Aperture Radar/Ground Moving Target Indicator (SAR/GMTI) Systems; forty (40) AN/DAS-1 Multi-Spectral Targeting System (MTS)-B; forty (40) Ground Data Terminals; forty (40) ARC-210 Radio Systems; forty (40) Embedded Global Positioning System/Inertial Navigation Systems; and forty-eight (48) AN/APX-119 and KIV-119 Identify Friend or Foe (IFF) Systems. Also included were spare and repair parts; communication, test, and support equipment; publications and technical documentation; airworthiness and maintenance support; site surveys and bed down planning; personnel training and training equipment; operational flight test; U.S. Government and contractor technical and logistics personnel services; and other related elements of logistics support. The estimated cost was $1.5 billion. Major Defense Equipment (MDE) constituted $765 million of this total.

On July 26, 2018, Congress was notified by Congressional certification transmittal number 18-0B of the retrofit of MQ-9s to become weapons capable, and the inclusion of one hundred (100) GBU-49 Enhanced Paveway dual mode GPS and laser guided bomb kits comprised of MXU-650 Air Foil Group (AFG) and MAU-210 Enhanced Computer Control Group (ECCG); two hundred (200) FMU-152 fuzes; six hundred fifty (650) AGM-114R Hellfire missiles, with active warheads; forty-five (45) AGM-114R Hellfire training missiles, without active warheads; and six (6) Hellfire Captive Air Training Missiles. The retrofit and inclusion of MDE not enumerated in the original notification resulted in the total notified cost of MDE increasing to $975 million. The total notified case value increased to $1.71 billion.

On November 22, 2019, Congress was notified by Congressional certification transmittal number 19-0P of the retrofit of four (4) MQ-9A Block 1 to exportable MQ-9A Block 5; the addition of four (4) MQ-9A Block 5; and the addition of fourteen (14) Embedded GPS/INS (EGI) with GPS Security Devices. The retrofit and inclusion of MDE not enumerated in the original notification resulted in the total notified cost of MDE increasing to $1.055 billion. The total notified case value remained $1.71 billion.

This transmittal reports the addition of up to five (5) Mobile Ground Control Stations (MDE). Also included are additional ARC-210 Radios Systems (non-MDE). The inclusion of MDE not enumerated in the original notification will result in the total notified cost of MDE increasing to $1.0875 billion. The total notified case value will remain at $1.71 billion.

(iv) Significance: This notification is being provided to report the inclusion of MDE and non-MDE articles and services not previously notified. Their inclusion represents an increase in capability over what was originally notified. The proposed articles and services will provide France's MQ-9 program with the equipment necessary to support capabilities that France is already employing.

(v) Justification: This proposed sale will support the foreign policy and national security of the United States by helping to improve the security of a NATO ally which is an important force for political stability and economic progress in Europe.

(vi) Sensitivity of Technology: The MQ-9A Mobile Ground Control Station (MGCS) enables a pilot to operate, in real-time, a long-endurance, medium altitude Remotely Piloted Aircraft (RPA) that can be used for surveillance, military reconnaissance, and targeting missions. A data link is maintained that uplink commands and downlink video with telemetry data. The data link can be a Line-of-Sight (LOS) C-Band communication or Beyond Line-of-Sight (BLOS) Ku-Band Satellite Communication (SATCOM). Aircraft can be handed off to other strategically placed ground control stations.

The highest level of classification of defense articles, components, and services included in this potential sale is UNCLASSIFIED.

(vii) Date Report Delivered to Congress: August 4, 2021

[FR Doc. 2023-05828 Filed 3-21-23; 8:45 am]

BILLING CODE 5001-06-P